DEPARTMENT OF THE INTERIOR

Bureau of Land Management

[WY-030-1310-DB]

Notice of Availability of Draft Environmental Impact Statement for the Atlantic Rim Natural Gas Development Project

AGENCY: Bureau of Land Management, Interior.

ACTION: Notice of Availability of a Draft Environmental Impact Statement (DEIS) for the Atlantic Rim Natural Gas Development Project, Rawlins, Wyoming.

SUMMARY: The Bureau of Land Management (BLM) announces the availability of the Atlantic Rim Natural Gas Development Project DEIS. The DEIS analyzes the environmental consequences of a proposed natural gas development and production operation on the 270,080 acre Atlantic Rim project area. The area is located within the administrative jurisdiction of the BLM Rawlins Field Office, and runs in an arc between Rawlins and Baggs in Townships 12-20 North, Ranges 89-93 West, Sixth Principal Meridian, Carbon County, Wyoming.

DATES: The DEIS will be available for review and comment for 60 calendar days starting on the date the Environmental Protection Agency (EPA) publishes its Notice of Availability in the Federal Register. The BLM can best utilize your comments and resource information submissions within the 60 day review period provided above.

ADDRESSES: A copy of the DEIS has been sent to affected Federal, State, and local government agencies and to interested parties. The document may be available electronically on the following Web site: http://www.blm.gov/nhp/spotlight/state_info/planning.htm. If you are interested in viewing material referenced or posted to the BLM Web site, please contact the Rawlins Field Office as to its availability.

Copies of the DEIS will be available for public inspection at the following locations:

• Bureau of Land Management, Wyoming State Office, 5353 Yellowstone Road, Cheyenne, Wyoming 82003.

• Bureau of Land Management, Rawlins Field Office, 1300 N. Third Street, Rawlins, Wyoming 82301.

FOR FURTHER INFORMATION: Contact Mr. David Simons, Project Lead, BLM Rawlins Field Office, 1300 N. Third Street, Rawlins, WY 82301. Requests for information may be sent electronically to: rawlins_wymail@blm.gov with “Attention: Atlantic Rim DEIS Information Request” in the subject line. Mr. Simons may also be reached at (307) 328-4328.

SUPPLEMENTARY INFORMATION: Anadarko Petroleum is lead proponent for a proposal to explore for and develop natural gas resources from coal and other formations in the Atlantic Rim project area. Petroleum Development Corporation (PEDCO), Merit Energy Company, and Double Eagle Petroleum and Mining Company are also participating in this proposal. The companies propose to drill up to 2,000 wells, 1800 completed to coal formations and 200 to other geologic targets for natural gas. Over approximately the next 20 years, the Operators propose to explore for and develop the oil and gas resources held through their existing leases within the Atlantic Rim Project Area. Life-of-Project is expected to be 30 to 50 years. Well density completed in coal formations would usually be 8 wells per 640 acre section of land; wells in other geologic formations would be spaced no tighter than 4 wells per section.

This proposal arises from the results of exploratory drilling under an interim drilling plan. Prior to preparation of the Atlantic Rim EIS, 6 exploratory plans of development (pods) of up to 24 wells each were completed in areas believed to have potential for commercial quantities of natural gas within the project area. Approximately 325 oil and gas wells have been drilled or approved for drilling within the Atlantic Rim project area; up to 2,000 additional wells could be drilled over the next 20 years.

The BLM published its Notice of Intent to prepare an EIS for the Atlantic Rim Natural Gas Development Project in the Federal Register on June 26, 2001. Based upon issues and concerns identified during scoping and throughout the NEPA process, the Atlantic Rim DEIS focuses on impacts to air quality, biological and physical resources, transportation, socio-economics, and cumulative effects. In compliance with Section 7(c) of the Endangered Species Act, as amended, the DEIS includes a biological assessment for the purpose of identifying endangered or threatened species which may be affected by the Proposed Action.

The Atlantic Rim DEIS analyzed four alternatives in detail:

1. The Proposed Action Alternative, as described below;

2. The No Action Alternative, which means the project as proposed would be rejected by the BLM;

3. Alternative A—Phased development; and,

4. Alternative B—Special protection of sensitive resources.

The agency's preferred alternative is Alternative B.

The Atlantic Rim DEIS analyzes the impacts of the Proposed Action (development of 2,000 natural gas wells), principally including the construction of access roads, pipelines, and other ancillary facilities (gas processing plant, compressor stations, water disposal sites, etc.). In the No Action alternative, BLM would reject the proposed action, as submitted. Alternative A analyzes the sequential development of the Atlantic Rim proposed action in three phases. The development period for each phase would be 6 to 7 years over the 20 year period envisioned in the proposed action. For Alternative B, development would occur as in the proposed action, but would be intensively mitigated or limited where sensitive resource values exist or overlap. Examples of sensitive resources include threatened, endangered, and sensitive wildlife; fish and plant species; fragile soils; and unique cultural values.

How To Submit Comments

The BLM welcomes your comments on the Atlantic Rim DEIS. Comments may be submitted as follows:

1. Comments may be electronically mailed to rawlins_wymail@blm.gov. Please submit electronic comments with “Attn: Atlantic Rim Project Manager” in the subject line and avoid using special characters and any form of encryption. Please do not include any attachments, as the BLM e-mail security system will not accept them. If you do not receive a confirmation from our system that your comment has been received, please contact Mr. David Simons, Project Lead, Rawlins Field Office, (307) 328-4328.

2. Written comments may be mailed or delivered to the BLM at: Atlantic Rim DEIS, Project Manager, Bureau of Land Management Rawlins Field Office, 1300 N. Third Street, P.O. Box 2407, Rawlins, WY 82301.

The BLM will only accept comments on the Atlantic Rim DEIS if they are submitted using one of the methods described above. To be given consideration by BLM, all DEIS comment submittals must include the commenter's name and street address.

Our practice is to make comments, including the names and street addresses of each respondent, available for public review at the BLM office listed above during business hours (7:45 a.m. to 4:30 p.m.), Monday through Friday, except for Federal holidays. Your comments may be disclosed as part of the EIS process. Individual respondents may request confidentiality. If you wish to withhold any information from public review or from disclosure under the Freedom of Information Act, you must state this prominently at the beginning of your written comments. Such requests will be honored to the extent allowed by law. We will not consider anonymous comments. All submissions from organizations or businesses will be made available for public inspection in their entirety.

Dated: October 25, 2005.
Alan L. Kesterke,
Associate State Director.

[FR Doc. 05-23933 Filed 12-9-05; 8:45 am]

BILLING CODE 4310-22-P